DEPARTMENT OF HOUSING AND URBAN DEVELOPMENT

[Docket No. FR-5376-N-20]

Notice of Submission of Proposed Information Collection to OMB; Emergency Comment Request; Housing Choice Voucher Program (Voucher Management System Enhancements and Reporting Requirements)

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal, to assure better understanding of the reporting requirements and consistency in the submission of data.

DATES: April 2, 2010.

ADDRESSES: Interested persons are invited to submit comments regarding this proposal. Comments must be received within seven (7) days from the date of this Notice. Comments should refer to the proposal by name/or OMB approval number and should be sent to: Mr. Ross A. Rutledge, HUD Desk Officer, Office of Management and Budget, New Executive Office Building, Washington, DC 20503; e-mail: RossA.Rutledge@omb.eop.gov; fax: (202) 395-5806.

FOR FURTHER INFORMATION CONTACT: Leroy McKinney, Jr., Departmental Reports Management Officer, QDAM, Department of Housing and Urban Development, 451 7th Street, SW., Room 4178, Washington, DC 20410-5000; telephone 202-402-8048, (this is not a toll-free number) or email Mr. McKinney at Leroy.McKinneyJr@hud.gov for a copy of the proposed forms, or other available information. Copies of available documents submitted to OMB may be obtained from Mr. McKinney.

SUPPLEMENTARY INFORMATION: This Notice informs the public that the U.S. Department of Housing and Urban Development (HUD) has submitted to OMB, for emergency processing, a proposed information collection that requires the addition of four new input fields within the Voucher Management System (VMS).

The VMS is currently used by Public Housing Agencies (PHAs) to report their monthly leasing and expense information in connection with the Housing Choice Voucher (HCV) program. The VMS collects data on monthly leasing activities and costs for the HCV program via mandatory PHA reporting. It is a critical data system that is used for a variety of major functions, including budget formulation, utilization analysis, and funding allocations. As such, accuracy of the data is extremely important.

The system is periodically enhanced to provide new flexibilities or features for improved ease and accuracy of reporting and use of the data. Accordingly, the new VMS reporting fields are designed to provide greater effectiveness in monitoring the PHAs' financial data and to provide a more complete picture of the PHAs' funding and resources. The reporting enhancements are expected to assist HUD's goal of achieving improved financial accountability by the PHAs and greater recognition of potential shortfalls that may impede the PHAs' ability to assist as many families and individuals as possible while staying within their budget.

Title of Proposed Notice: Housing Choice Voucher Program (Voucher Management System Enhancements and Reporting Requirements.)

Description of Information Collection: This is a revision of a previously approved information collection. The Department of Housing and Urban Development is seeking emergency review of the Paperwork Reduction Act requirements associated with the Office of Public Housing and Voucher Program's Voucher Management System. The four additional reporting fields will be crucial to the identification of actual or incipient financial problems that will ultimately affect funding for program participants. Through submission of these monthly reports, HUD is able to ensure that PHAs do not over or under utilize their baseline unit months or annual budget authority, thereby maximizing the number of qualified families that can participate in the Housing Choice Voucher programs.

The reporting fields and their definitions are described as follows:

(1) Net Restricted Assets (NRA) as of the Last Day of the Month

For Reference: NRA is the amount reported on the income statement at line 1118—Restricted Net Assets. The NRA reported in VMS must be updated through the end of the reporting month.

Definition: NRA is the amount of Housing Assistance Payments (HAP) Equity for the Housing Choice Voucher (HCV) program. It is equal to total HAP revenue minus total HAP expense for eligible unit months leased on a calendar year basis. Total HAP expense should include expenses for regular vouchers as well as expenses for certain HCV special purpose vouchers including Non-Elderly Disabled (NED), Family Unification Program (FUP), HOPE VI, One Year Mainstream (MS1), Litigation, Tenant Protection (TP), and Homeownership. Total HAP revenue is defined as total funding eligibility for calendar years 2005 and later (including pro-rated renewal eligibility plus funding for incremental vouchers) minus any offsets for 2008 and 2009, and should equal the amount actually disbursed to the PHA. The amount reported must include all interest earned, fraud recovery, and Family Self-Sufficiency (FSS) forfeitures. Veterans Affairs Supportive Housing (VASH) NRA is not reported in this field. Those funds are tracked separately and the balance is reported in Line 1118—Restricted Net Assets.

The balance of this account will be carried forward on a monthly basis beginning January 1, 2005, through the end of the current month. Note: Negative amounts must be reported; however, if the PHA has a negative balance at the end of the calendar year the negative amount must not be carried forward to January of the following year. The PHA must start with a zero balance at the beginning of January for purposes of reporting in this field. PHAs are advised that although the negative amount is not carried forward to the following year the deficit incurred by the PHA is not forgiven nor will additional funds be provided to cover the shortage. The PHA is responsible for operating their program within the amount of funding provided. Negative amounts reported may result in a HUD review and corrective action may be warranted if it is determined the PHA expended any portion of their HAP funding on non-HAP eligible expenses.

Moving to Work (MTW) PHAs should report their financial information as required in their MTW Agreement.

(2) Unrestricted Net Assets (UNA) as of the Last Day of the Month

For reference: UNA is the amount reported on the income statement at line 1117—Administrative Fee Equity. The UNA reported in VMS must be updated through the end of the reporting month.

Definition: UNA is equal to total Administrative Fee (AF) revenue minus total HCV administrative expenses and any AF used for housing assistance payments (HAP) or other activities for Section 8 Tenant Based related purposes. UNA (referred to Administrative Fee Reserve in the HCV voucher program regulations) is the amount by which program administrative fees paid by HUD for a PHA fiscal year exceeded the PHA program administrative expenses for the fiscal year plus any interest earned on the administrative fee reserve (see 24 CFR 982.155(a)). This means that the total administrative fee revenue used to calculate the UNA reported in this Field does not include administrative fees received during the current PHA fiscal year, because excess AF received does not accumulate to the UNA until the end of the PHA's fiscal year. The excess fees received during the PHA's current fiscal year will not be reported in the UNA field until after PHA's fiscal year in which they were received has ended. The monthly amount reported is the current UNA balance (including any interest earned and fraud recovery allocated to the UNA account for the month being reported). PHAs must also include in this field their pre-2005 AF balance, formerly referred to as their operating reserve (also known as their administrative fee reserve). MTW PHAs should report their financial information as required in their MTW Agreement.

(3) Cash/Investments as of the Last Day of the Month

For Reference: These are the amounts reported on the balance sheet at lines 111—Cash—Unrestricted; 113—Cash—other restricted; 131—Investments—Unrestricted; and 132—Investments—restricted. The Cash/Investments reported in VMS must be updated through the end of the reporting month.

Definition: Cash/Investments as of the last day of the month is the total amount of housing assistance payments (HAP) and administrative fee (AF) cash and investments for the Housing Choice Voucher (HCV) program. This amount must include only those HAP and AF funds (including any interest or revenue derived) received for the HCV program, including interest earned, fraud recovery and Family Self-Sufficiency (FSS) forfeitures. Funds received for FSS Coordinator and not expensed must not be included. Cash and investments for FSS escrows must not be included. MTW PHAs should report their financial information as required in their MTW Agreement.

(4) Number of Vouchers Issued But Not Under Active Housing Assistance Payment (HAP) Contract as of the Last Day of the Month

Definition: This figure represents the total number of new vouchers issued and not yet under a HAP contract as of the last day of the reporting period.

This figure excludes vouchers issued to participants who are currently under HAP contract in one unit but have been issued a voucher to search for another unit to which they intend to move with continued voucher assistance.

Example: A PHA has 125 vouchers issued and “on the street,” as follows: (a) 105 families are applicants from the PHA's waiting list that were selected and issued vouchers; (b) 10 families are participants whose HQS inspection resulted in abatement, and their contracts were terminated; (c) 5 families are Port-ins that the PHA is absorbing; and (d) 5 families are transferring from other units for which they are currently being assisted. In this example, the first 120 families from categories a, b and c will be reported in the VMS field described in (4), above. The remaining 5 families in (d) would not be reported in this field.

Public comment is invited from interested parties specifically with regard to whether clarification is needed to better understand the definitions provided herein for the four new VMS reporting fields. Commenters are requested to explain in detail the basis for all comments submitted.

OMB Control Number: 2577-0169.

Agency Form Numbers: Automated form HUD 52681-B (VMS) will be used to collect data.

Members Of Affected Public: Business or other for-profit, State, Local Government.

Estimation of the total numbers of hours needed to prepare the information collection including number of respondents, frequency of responses, and hours of responses: The estimated number of respondents is 2,450; the frequency of response is once per month; and the total reporting burden will change from the current total reporting time of 44,100 hours to 58,800 hours. The requested information is currently maintained by the PHAs as part of their monthly balance sheets, income statements, and on-site voucher tracking for purposes of annual reporting; however the four new fields will require the PHAs to report the information monthly.

Authority: The Paperwork Reduction Act of 1995, 44 U.S.C. Chapter 35, as amended.

Dated: March 22, 2010.
Leroy McKinney,
Departmental Reports Management Officer, Office of the Chief Information Officer.

[FR Doc. 2010-6737 Filed 3-25-10; 8:45 am]

BILLING CODE 4210-67-P